FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—07/09/2007
20071517 | Windstream Corporation | CT Communications, Inc | CT Communications, Inc.
20071560 | Millennium International, Ltd | Sunrise Senior Living, Inc | Sunrise Senior Living, Inc.
20071611 | Warburg Pincus Private Equity IX, L.P | Bausch & Lomb Incorporated | Bausch & Lomb Incorporated.
20071612 | Warburg Pincus Private Equity X, L.P | Bausch & Lomb Incorporated | Bausch & Lomb Incorporated.
20071621 | Industrial Growth Partners III, L.P | Heat Transfer Parent, Inc | Heat Transfer Parent, Inc.
20071622 | SiRF Technology Holdings, Inc | Centrality Communications, Inc | Centrality Communications, Inc.
20071628 | Michael Joseph Jackson | Mr. Sumner M. Redstone | Famous Music LLC.
20071629 | Sony Corporation | Mr. Sumner M. Redstone | Famous Music LLC.
20071634 | Quadrangle Capital Partners II LP | Felix Dennis | Dennis Publishing, Inc.
20071662 | HOYA Corporation | PENTAX Corporation | PENTAX Corporation.
Transactions Granted Early Termination—07/10/2007
20070514 | TDS Investor (Cayman) L.P | Citigroup, Inc | Worldspan Technologies, Inc.
20071549 | Highfields Capital I LP | Clear Channel Communications, Inc | Clear Channel Communications, Inc.
20071550 | Highfields Capital II LP | Clear Channel Communications, Inc | Clear Channel Communications, Inc.
20071552 | Highfields Capital Ltd | Clear Channel Communications, Inc | Clear Channel Communications, Inc.
20071569 | Amgen Inc | Alantos Pharmaceuticals Holdings, Inc | Alantos Pharmaceuticals Holdings, Inc.
20071573 | Amgen Inc | Ilypsa, Inc | Ilypsa, Inc.
20071592 | Linx Partners II, L.P. | John W. More, Jr | Cimarron Central, L.L.C.
20071596 | Mr. William Collins | Vertrue, Inc | Vertrue, Inc.
20071603 | TCV VI, L.P | FX Alliance Inc | FX Alliance Inc.
20071610 | CIT Group Inc | EVP Holdings, LLC | Edgeview Partners LLC.
20071615 | Corinthian Equity Fund, L.P | CellXion, LLC | CellXion, LLC.
20071625 | Sun Capital Partners IV, LP | Interface, Inc | InterfaceFABRIC, Inc.
20071626 | Sun Capital Partners V, LP | Interface, Inc | InterfaceFABRIC, Inc.
20071627 | Zarlink Semconductor Inc | Legerity Holdings, Inc | Legerity Holdings, Inc.
20071646 | Babcock & Brown Spinco LLC | GTCR Fund VII, L.P | Coinmach Service Corp.
20071647 | Umeco plc | Michael C. Burkitt | J.D. Lincoln, Inc.
20071656 | GTCR Fund VIII, L.P | Vincent A. Naccarato | Wilton Industries, Inc.
20071663 | John L. Nau III | Sis Co., L.L.P | BudCo, Ltd.
20071666 | Centerbridge Capital Partners, L.P. | Charlesbank Equity Fund V, Limited Partnership | GSI Holdings Corp.
20071670 | GTCR Fund VIII, L.P | Dimensions Holding LLC | Dimensions Acquisition LLC.
20071676 | Mohawk Industries, Inc | Columbia Forest Products, Inc | Appalachian Custome Dry Kilns, LLC. Appalachian Precision Hardwood Flooring, LLC Century Flooring Company, LLC. Columbia Flooring, Inc. Danville Doolittle, Inc. Danville Kentuck, Inc. Malaytex, Inc. Sharikat Malaysia Wood Industries Sdn Bhd. Universal Hardwood Flooring LP LLLP. Universal Woodfloor (Europe) AB.
20071683 | Grubb & Ellis Company | NNN Realty Advisors, Inc | NNN Realty Advisors, Inc.
Transactions Granted Early Termination—07/11/2007
20071540 | Wellmont Health System | Health Management Associates, Inc | Norton, HMA, Inc. Pennington Gap HMA, Inc. Pennington Gap HMA Physician Management, Inc. Western Virginia HMA Physician Management Inc.
20071542 | Northrop Grumman Corporation | SAIC, Inc | AMSEC LLC.
20071591 | Dr. Phillip Frost | Opko Health, Inc | Opko Health, Inc.
20071654 | Berkshire Hathaway Inc | Boat America Corporation Employee Stock Ownership Trust | Boat America Corporation.
20071660 | Nautic Partners VI, L.P | Lincolnshire Equity Fund II, L.P | Prince Sports Holdings, Inc.
20071672 | Humana Inc | CompBenefits Corporation | CompBenefits Corporation.
20071677 | Nucor Corporation | MAGNATRAX Corporation | MAGNATRAX Corporation.
20071692 | Elevation Partners, L.P | Palm, Inc | Palm, Inc.
Transactions Granted Early Termination—07/12/2007
20071376 | L'Air Liquide S.A | GEA Group Aktiengesellschaft | Lurgi, Inc.
20071616 | Simms Group Limited | SA Recycling LLC | SA Recycling LLC.
20071618 | Self Serve Auto Dismantlers Inc | SA Recycling LLC | SA Recycling LLC.
20071678 | Nuance Communications, Inc | Time Warner Inc | Tegic Communications, Inc.
Transactions Granted Early Termination—07/13/2007
20071679 | The Weir Group PLC | Dan E. Lowrance | SPM Flow Control, Inc.
20071685 | Anthony W. Thompson | Grubb & Ellis Company | Grubb & Ellis Company.
20071690 | Madison Dearborn Capital Partners V-A, L.P | CDW Corporation | CDW Corporation.
20071699 | Autonomy Corporation plc | ZANTAZ, Inc | ZANTAZ, Inc.
Transactions Granted Early Termination—07/16/2007
20071562 | Flextronics International Ltd | Solectron Corporation | Solectron Corporation.
20071604 | Veolia Environnement S.A | President and Fellows of Harvard College | Thermal North America, Inc. Trigen Atlanta Holdings Corporation.
20071613 | DCP Midstream Partners, LP | Spectra Energy Corp | MEG Colorago Gas Services, LLC. Momentum Energy Group LLC.
20071614 | DCP Midstream Partners, L.P | ConocoPhillips | MEG Colorago Gas Services, LLC. Momentum Energy Group LLC.
20071619 | ConocoPhillips | Momentum Energy Group Inc | Momentum Energy Group Inc.
20071620 | Spectra Energy Corp | Momentum Energy Group Inc | Momentum Energy Group, Inc.
20071632 | Invus, L.P | Lexicon Pharmaceuticals, Inc | Lexicon Pharmaceuticals, Inc.
20071643 | McMoRan Expoloration Co | Newfield Exploration Company | Newfield Exploration Company.
20071649 | Texas Energy Future Holdings Limited Partnership | TXU Corp | TXU Corp.
20071655 | Quad-C Partners VI, L.P | David S. Littman | Hudson Valley Lighting, Inc. Troy-CSL Lighting, Inc.
20071664 | XTO Energy Inc | Dominion Resources, Inc | Dominion Reserves—Utah, Inc.
|  |  | Dominion San Juan, Inc. Havre Pipeline Company, LLC.
20071667 | Loews Corporation | Dominion Resources, Inc | DEPI Survivor LP. DEPI Texas Holdings, LLC. Dominion Black Warrior Basin, Inc. Dominion Energy, Inc. Dominion Exploration & Production, Inc. Dominion Gas Processing MI, Inc. Dominion Midwest Energy, Inc. Dominion Oklahoma Texas Exploration & Production, Inc. Dominion Reserves, Inc. DOTEPI Survivor LP. LDNG Texas Holdings, LLC. Stonewater Pipeline Company LP. Stonewater Pipeline Company of Texas, Inc.
20071668 | K-Sea Transportation Partners L.P | Sirius Maritime, LLC. | Sirius Maritime, LLC.
20071674 | Sun Capital Partners IV, LP | Friendly Ice Cream Corporation | Friendly Ice Cream Corporation.
20071675 | Sun Capital Partners IV, LP | Friendly Ice Cream Corporation | Friendly Ice Cream Corporation.
20071686 | K-Sea Transportation Partners L.P | Gordon L. K. Smith | Go Big Chartering, LLC. Smith Maritime, Ltd.
20071696 | KGen Power Corporation | Complete Energy Holdings, LLC | Complete Energy Holdings, LLC.
20071700 | Schering-Plough Corporation | Dennis T. Mangano, Ph.D | PeriCor Therapeutics, Inc.
20071704 | Wells Fargo & Company | Breater Bay Bancorp | ABD Financial Services, Inc. ABD Insurance and Financial Services. Lucini/Parish Insurance, Inc.
20071706 | Sonic Healthcare Limited | Lawrence Siedlick | Sunrise Medical Laboratories.
20071707 | Sonic Healthcare Limited | Patricia Lanza | Sunrise Medical Laboratories.
20071711 | The Bear Stearns Companies Inc | Universal American Financial Corp | Universal American Financial Corp.
20071719 | The Estee Lauder Companies Inc | Ojon Corporation | Ojon Corporation.
Transactions Granted Early Termination—07/17/2007
20071684 | Thomas & Betts Corporation | Danaher Corporation | Danaher Power Solutions, LLC. Danaher UK Industries Limited. Fisher Pierce Co. Jennings Technology Company, LLC. Joslyn Canada. Josyln Hi-Voltage Company, LLC. Joslyn Holding Company. Royce Thompson Limited.
20071691 | Madison Dearborn Capital Partners V-A, L.P | Nuveen Investments, Inc | Nuveen Investments, Inc.
Transactions Granted Early Termination—07/18/2007
20071341 | BAE Systems plc | Armor Holdings, Inc | Armor Holdings, Inc.
20071636 | Empeiria Conner LLC | Besser Company | Aggregate Plant Products Company.
Transactions Granted Early Termination—07/19/2007
20071681 | RFS Holdings V.V | ABN Amro Holdings N.V | ABN Amro Holdings N.V.
20071763 | Walgreen Co | Option Care, Inc | Option Care, Inc.
Transactions Granted Early Termination—07/20/2007
20071715 | Intercontinental-Exchange, Inc | The Northerwestern Mutual Life Insurance Company | Frank Russell Company.
20071725 | ONEOK Partners, L.P | Knight Holdco LLC | Heartland Pipeline Company. ONEOK North System, L.L.C.
20071728 | ACON-Bastion Partners II, L.P | Spencer Gifts Holdings, Inc | Spencer Gifts Holdings, Inc.
20071730 | Biogen Idec Inc | CardioKine, Inc | CardioKine, Inc.
20071734 | General Electric Company | DTE Energy Company | EIUC Holdings, LLC.
20071735 | Hellman & Friedman Capital Partners V, L.P | Intuit Inc | Intuit Inc.
20071744 | Franklin Holdings (Bermuda), Ltd | James River Group | James River Group.
20071745 | Wellpoint | Nautic Partners V, L.P | Imaging Management Holdings, LLC.
20071749 | Welsh, Carson, Anderson & Stowe X, L.P | Cornelius Durpe, II | Venture Transport Logistics LLC.
20071753 | Bain Capital Fund IX, L.P | Guitar Center, Inc. | Guitar Center, Inc.
20071753 | Cameron 1 S.a.r.l | Samsonite Corporation | Samsonite Corporation.
20071768 | Elevation Partners, L.P | Warburg Pincus Private Equity VIII, L.P | SDI Media Holding, Inc.

FOR FURTHER INFORMATION CONTACT: Sandra M. Peay, Contact Representative or Renee Hallman, Contact Representative. Gederal Trade Commission, Premerger Notification Office, Bureau of Competition, Room H-303, Washington, DC 20580, (202) 326-3100.

By Direction of the Commission.
Donald S. Clark
SEcretary

[FR Doc. 07-3745 Filed 7-31-07; 8:45 am]

BILLING CODE 6750-01-M